DEPARTMENT OF HEALTH AND HUMAN SERVICES

Administration for Children and Families

Proposed Information Collection Activity; Comment Request

Proposed Projects:

Title: DHHS/ACF/ASPE Enhanced Services for the Hard-to-Employ

OMB No.: New Collection

Description: The Enhanced Services for the Hard-to-Employ Demonstration and Evaluation Project (HtE) is the most ambitious, comprehensive effort to learn what works in this area to date and is explicitly designed to build on previous and ongoing research by rigorously testing a wide variety of approaches to promote employment and improve family functioning and child well-being. The HtE project will “conduct a multi-site evaluation that studies the implementation issues, program design, net impact and benefit-costs of selected programs” ¹ designed to help Temporary Assistance for Needy Families (TANF) recipients, former TANF recipients, or low income parents who are hard-to-employ. The project is sponsored by the Office of Planning, Research and Evaluation (OPRE) of the Administration for Children and Families (ACF), the Office of the Assistant Secretary for Planning and Evaluation (ASPE) in the U.S. Department of Health and Human Services (HHS), and the U.S. Department of Labor. The evaluation involves an experimental, random assignment design in 6 sites, testing a diverse set of strategies to promote employment for low-income parents who face serious obstacles to employment, including physical and mental health problems, substance abuse, human capital deficiencies, and situational barriers. At least two of the sites included in the evaluation will feature “two generation” models, serving both parents and their children. Over the next several years, the HtE project will generate a wealth of rigorous data on implementation, effects, and costs of these alternative approaches. The data collected will be used for the following purposes:

• To study the extent to which different HtE approaches impact employment, earnings, income, welfare dependence, and the presence or persistence of employment barriers;

• To collect data on a wider range of outcome measures than is available through Welfare, Medicaid, Food Stamps, Social Security, the Criminal Justice System or Unemployment Insurance records in order to understand the family circumstances and attributes and situations that contribute to the difficulties in finding employment; job retention and job quality; educational attainment; interactions with and knowledge of the HtE program; household composition; childcare; transportation; health care; income; physical and mental health problems; substance abuse; domestic violence; and criminal history.

• To conduct non-experimental analyses to explain participation decisions and provide a descriptive picture of the circumstances of individuals who are hard-to-employ;

• To obtain participation information important to the evaluation's benefit-cost component;

• And to obtain contact information for possible future follow-up, information that will be important to achieving high response rates for the 42-month survey.

¹ From the Department of Health and Human Services RFP No.: 233-01-0012.

Respondents: The respondents of the baseline survey are Temporary Assistance for Needy Families (TANF) recipients, former TANF recipients, or low-income individuals who are hard-to-employ from six states likely to be participating in the HtE Project: California, Georgia, Kansas, New York, Pennsylvania, and Wisconsin. Survey respondents can be grouped according to 4 target populations: prisoners with children; low-income mothers with mental health problems; populations connected to the TANF system; and programs working with two-generations (parents and their children). Prior to random assignment, basic demographic information for all survey respondents will be obtained wherever possible from the program's automated system. In addition, all survey respondents will receive a core set of questions that will be administered by Audio-Computer Assisted Self Interview (ACASI-Core). In the site operating a program aimed specifically at ex-offenders, an additional supplementary module will be administered by Audio-CASI. Similarly, an additional supplementary module will be administered by Audio-CASI in the site operating a program aimed at survey respondents with mental health problems. Finally, in the two-generation sites (two of the six sites), survey respondents will complete a two-generation survey administered by a Computer Assisted Personal Interview (CAPI). Approximately 12,000 respondents will complete the core survey, 2,000 will complete the criminal justice module, 2,000 will complete the mental health module, and 4,000 will complete the two-generation CAPI survey.

Annual Burden Estimates
Instrument | Number of respondents | Number of responses per respondent | Average burden hours per response | Total burden hours
Audio-CASI Core | 12,000 | 1 | 10 minutes or .17 hrs | 2,000
Criminal Justice Module | 2,000 | 1 | 10 minutes or .17 hrs | 333.33
Mental Health Module | 2,000 | 1 | 10 minutes or .17 hrs | 333.33
Two Generation | 4,000 | 1 | 30 minutes or .5 hrs | 2,000
Estimated Total Annual Burden Hours |  |  |  | 4,666.66

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 6, 2003.
Gerald L. Fralick,
Director, Office of Information Systems.

[FR Doc. 03-3446 Filed 2-12-03; 8:45 am]

BILLING CODE 4184-01-M